DEPARTMENT OF TRANSPORTATION

Federal Aviation Administration

14 CFR Part 39

[Docket No. FAA-2010-1111; Directorate Identifier 2010-NM-129-AD; Amendment 39-16676; AD 2011-09-14]

RIN 2120-AA64

Airworthiness Directives; The Boeing Company Model 747-200B, -300, -400, -400D, and -400F Series Airplanes Powered by Pratt and Whitney 4000 or General Electric CF6-80C2 Series Engines

AGENCY: Federal Aviation Administration (FAA), DOT.

ACTION: Final rule.

SUMMARY: We are adopting a new airworthiness directive (AD) for the products listed above. This AD requires an inspection to determine the part number of the mid-pivot access door and to determine if the correct door is installed, and the installation of a marker on the mid-pivot access door, and if necessary, repetitive ultrasonic inspections for cracking of the mid-pivot bolt assembly and eventual replacement of the mid-pivot bolt assembly. This AD was prompted by a report that the left and right access doors of the spring beam mid-pivot bolt assembly for the No. 1 strut were inadvertently installed in the incorrect position during strut modification. We are issuing this AD to detect and correct incorrectly installed mid-pivot bolt assemblies on the spring beam on the outboard struts. Incorrectly installed bolt assemblies could lead to fatigue cracking and consequent fracturing of the mid-pivot bolt assembly, which could lead to loss of the spring beam load path and the possible separation of a strut and engine from the airplane during flight.

DATES: This AD is effective June 6, 2011.

The Director of the Federal Register approved the incorporation by reference of a certain publication listed in the AD as of June 6, 2011.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Kenneth Paoletti, Aerospace Engineer, Airframe Branch, ANM-120S, FAA, Seattle Aircraft Certification Office (ACO), 1601 Lind Avenue, SW., Renton, Washington 98057-3356; phone: (425) 917-6434; fax (425) 917-6590; e-mail: Kenneth.Paoletti@faa.gov.

SUPPLEMENTARY INFORMATION:

Discussion

We issued a notice of proposed rulemaking (NPRM) to amend 14 CFR part 39 to include an airworthiness directive (AD) that would apply to the specified products. That NPRM published in the Federal Register on November 15, 2010 (75 FR 69612). That NPRM proposed to require an inspection to determine the part number of the mid-pivot access door and to determine if the correct door is installed, and the installation of a marker on the mid-pivot access door, and if necessary, repetitive ultrasonic inspections for cracking of the mid-pivot bolt assembly and eventual replacement of the mid-pivot bolt assembly.

Comments

We gave the public the opportunity to participate in developing this AD. The following presents the comments received on the proposal and the FAA's response to each comment.

Support for the NPRM

Boeing supported the contents of the NPRM.

Request To Include References to Airplane Maintenance Manual

United Airlines (UAL) stated that it is concerned about the actions in Boeing Alert Service Bulletin 747-54A2232, dated April 15, 2010, being undone and leading to the same condition. UAL suggested that we revise the NPRM to include airplane maintenance manual (AMM) references, including a check for marker BAC27EPP667 before installing the access door. As an alternative, UAL also suggested that the mid-pivot access door part number could be changed instead of keeping the same part number. UAL stated that if the NPRM is not changed to incorporate one of the two options, then the required actions could be undone if doors without the marker are installed.

We disagree with the request to revise this AD. Section 39.7 of the Federal Aviation Regulations (14 CFR 39.7) states the following: “Anyone who operates a product that does not meet the requirements of an applicable airworthiness directive is in violation of this section.” Therefore, operators are prohibited from installing a door that does not meet the requirements of this AD. However, operators are permitted to add a check to applicable AMM to prevent installing the incorrect access door. We have not changed the final rule in regard to this issue.

Request To Clarify Figures in Service Information

UPS requested that we clarify the figures C-C and D-D on sheets 7 and 8 of Appendix B of Boeing Alert Service Bulletin 747-54A2232, dated April 15, 2010. UPS stated that the transducer positions `A' and `B' on sheet 7 of Appendix B do not coincide with the transducer positions `A' and `B' on the cross-sections C and D on sheet 8 of Appendix B.

We agree to clarify. Both sheets show the transducer in position `A' over the grease channel, and the transducer in position `B' adjacent to the grease channel. Sheet 7 provides a top-down view on the mid-pivot pin, and sheet 8 is a side view with the grease channel in a single location for both views. The side view on sheet 8 is only intended to show which end of the pin is correct. No change to the service bulletin or rule is needed. We have not changed the final rule in regard to this issue.

Conclusion

We reviewed the relevant data, considered the comments received, and determined that air safety and the public interest require adopting the AD as proposed.

Costs of Compliance

We estimate that this AD affects 95 airplanes of U.S. registry. We also estimate that it would take about 3 work-hours per product to comply with this AD. The average labor rate is $85 per work-hour. Based on these figures, we estimate the cost of this AD to the U.S. operators to be $24,225, or $255 per product.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-09-14 The Boeing Company: Amendment 39-16676; Docket No. FAA-2010-1111; Directorate Identifier 2010-NM-129-AD.

Effective Date

(a) This AD is effective June 6, 2011.

Affected ADs

(b) None.

Applicability

(c) This AD applies to The Boeing Company Model 747-200B, -300, -400, -400D, and -400F series airplanes; certificated in any category; equipped with Pratt and Whitney 4000 or General Electric CF6-80C2 series engines, as identified in Boeing Alert Service Bulletin 747-54A2232, dated April 15, 2010.

Subject

(d) Air Transport Association (ATA) of America Code 54: Nacelles/pylons.

Unsafe Condition

(e) This AD was prompted by a report that the left and right access doors of the spring beam mid-pivot bolt assembly for the No. 1 strut were inadvertently installed in the incorrect position during strut modification. The Federal Aviation Administration is issuing this AD to detect and correct incorrectly installed mid-pivot bolt assemblies on the spring beam on the outboard struts. Incorrectly installed bolt assemblies could lead to fatigue cracking and consequent fracturing of the mid-pivot bolt assembly, which could lead to loss of the spring beam load path and the possible separation of a strut and engine from the airplane during flight.

Compliance

(f) You are responsible for having the actions required by this AD performed within the compliance times specified, unless the actions have already been done.

Inspection To Determine if Correct Door Is Installed

(g) Within 24 months after the effective date of this AD, do an inspection to determine if the correct mid-pivot access door is installed, in accordance with the Accomplishment Instructions of Boeing Alert Service Bulletin 747-54A2232, dated April 15, 2010.

(h) If, during the inspection required by paragraph (g) of this AD, the correct mid-pivot door is found to be installed, before further flight, install a marker on the mid-pivot access door, in accordance with the Accomplishment Instructions of Boeing Alert Service Bulletin 747-54A2232, dated April 15, 2010.

(i) If, during the inspection required by paragraph (g) of this AD, the correct mid-pivot door is not found to be installed, before further flight, do the actions required by paragraphs (i)(1), (i)(2), and (i)(3) of this AD, in accordance with the Accomplishment Instructions of Boeing Alert Service Bulletin 747-54A2232, dated April 15, 2010.

(1) Rotate the mid-pivot bolt assembly to the correct orientation and replace the mid-pivot access door with a new or serviceable mid-pivot access door.

(2) Install a marker on the mid-pivot access door.

(3) Do the actions required by paragraph (i)(3)(i) or (i)(3)(ii) of this AD.

(i) (Option 1) Do an ultrasonic inspection for cracking of the mid-pivot bolt assembly.

(A) If no cracking is found, do the actions required by paragraphs (i)(3)(i)(A)(1) and (i)(3)(i)(A)(2) of this AD.

(1) Repeat the ultrasonic inspection for cracking of the mid-pivot bolt assembly thereafter at intervals not to exceed 24 months until the action required by paragraph (i)(3)(i)(A)(2) of this AD is done.

(2) Within 60 months after the effective date of this AD, replace the mid-pivot bolt assembly with a new mid-pivot bolt assembly. Replacement terminates the repetitive inspections required by paragraph (i)(3)(i)(A)(1) of this AD.

(B) If any cracking is found, replace the mid-pivot bolt assembly with a new mid-pivot bolt assembly, before further flight.

(ii) (Option 2) Replace the mid-pivot bolt assembly with a new mid-pivot bolt assembly.

Alternative Methods of Compliance (AMOCs)

(j)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

Related Information

(k) For more information about this AD, contact Kenneth Paoletti, Aerospace Engineer, Airframe Branch, ANM-120S, FAA, Seattle Aircraft Certification Office (ACO), 1601 Lind Avenue, SW., Renton, Washington 98057-3356; telephone (425) 917-6434; fax (425) 917-6590; kenneth.paoletti@faa.gov.

Material Incorporated by Reference

(l) You must use Boeing Alert Service Bulletin 747-54A2232, dated April 15, 2010, to do the actions required by this AD, unless the AD specifies otherwise.

(1) The Director of the Federal Register approved the incorporation by reference of Boeing Alert Service Bulletin 747-54A2232, dated April 15, 2010, under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, FAA, Transport Airplane Directorate, 1601 Lind Avenue, SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on April 15, 2011.
Ali Bahrami,
Manager, Transport Airplane Directorate, Aircraft Certification Service.

[FR Doc. 2011-9919 Filed 4-29-11; 8:45 am]

BILLING CODE 4910-13-P